DEPARTMENT OF JUSTICE

Bureau of Alcohol, Tobacco, Firearms and Explosives

Agency Information Collection Activities: Proposed Collection; Comments Requested; Clarification

ACTION: 30-day notice of information collection under review: Investigator integrity questionnaire.

The Department of Justice published a 30-Day Notice of Information Collection Under Review on February 22, 2005, on page 8635; the comment date expires on March 24, 2005. A second notice was published in the Federal Register on March 1, 2005, on page 9979, in error. That notice is withdrawn. The correct comment expiration date for the 30-day notice is March 24, 2005.

Dated: March 23, 2005.
Brenda E. Dyer,
Department Clearance Officer, Department of Justice.

[FR Doc. 05-6099 Filed 3-24-05; 10:28 am]

BILLING CODE 4410-FY-P